DEPARTMENT OF ENERGY

Federal Energy Regulatory Commission

Notice of Application for Surrender of Exemption From Licensing and Soliciting Comments, Motions To Intervene, and Protests

March 10, 2004.

Take notice that the following hydroelectric application has been filed with the Commission and is available for public inspection:

a. Application Type: Surrender of small conduit exemption.

b. Project No.: 11178-003.

c. Date Filed: February 11, 2004.

d. Applicant: City of Tucson, Arizona.

e. Name of Project: Tucson Hydroelectric Project .

f. Location: Units of the project would have been located at eleven pressure reducing stations within the city's municipal water system, which obtains water from a U.S. Bureau of Reclamation aqueduct in Pima County, Arizona. No lands of the United States would be affected.

g. Filed Pursuant to: Federal Power Act, 16 U.S.C. 791a-825r .

h. Applicant Contact: Mr. Mike Sanders, Tucson Water Department, P.O. Box 27210, Tucson, AZ 85726-7210, (520) 791-2630.

i.

FERC Contact: James Hunter, (202) 502-6086.

j. Status of Environmental Analysis: This application is ready for environmental analysis at this time, and the Commission is requesting comments, reply comments, recommendations, terms and conditions, and prescriptions.

k. Deadline for Filing Comments and or Motions: April 12, 2004.

All documents (original and eight copies) should be filed with: Ms. Magalie R. Salas, Secretary, Federal Energy Regulatory Commission, 888 First Street, NE., Washington, DC 20426. Please include the project number (P-11178-003) on any comments or motions filed.

Comments, protests, and interventions may be filed electronically via the Internet in lieu of paper. See 18 CFR 385.2001(a)(1)(iii) and the instructions on the Commission's Web site at http://www.ferc.gov under the ;“e-Filing” link. The Commission strongly encourages electronic filings.

l. Description of Request: The City of Tucson proposes to surrender its exemption for the 4,246-kilowatt (kW) Tucson Project because of current economic conditions and failure to secure a viable arrangement with its energy provider. The project would have consisted of eleven powerhouses containing generating units with capacities ranging from 49 kW to 1,275 kW. The City states that it will reapply at such time as conditions change and the project is determined to be feasible.

m. Locations of the Application: This filing is available for review and reproduction at the Commission in the Public Reference Room, Room 2A, 888 First Street, NE., Washington, DC 20426. The filing may also be viewed on the web at using the “eLibrary” link. Enter the docket number, here P-11178, in the docket number field to access the document. For assistance, call toll-free 1-866-208-3676 or e-mail FERCOnlineSupport@ferc.gov. For TTY, call (202) 502-8659. A copy is also available for inspection and reproduction at the Tucson Water Department.

n. Individuals desiring to be included on the Commission's mailing list should so indicate by writing to the Secretary of the Commission.

o. Comments, Protests, or Motions to Intervene—Anyone may submit comments, a protest, or a motion to intervene in accordance with the requirements of rules of practice and procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

p. Filing and Service of Responsive Documents —Any filings must bear in all capital letters the title “COMMENTS”, “RECOMMENDATIONS FOR TERMS AND CONDITIONS”, “PROTEST”, or “MOTION TO INTERVENE”, as applicable, and the Project Number of the particular application to which the filing refers. A copy of any motion to intervene must also be served upon each representative of the Applicant specified in the particular application.

q. Agency Comments: Federal, State, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. E4-596 Filed 3-15-04; 8:45 am]

BILLING CODE 6717-01-P